DEPARTMENT OF ENERGY

Agency Information Collection Extension

AGENCY: U.S. Department of Energy.

ACTION: Notice and Request for OMB Review and Comment.

SUMMARY: The Department of Energy (DOE) has submitted an information collection request to the OMB for extension under the provisions of the Paperwork Reduction Act of 1995. The information collection requests a three-year extension of its Occupational Radiation Protection Program, OMB Control Number 1910-5105. This information collection request covers information necessary to permit DOE and its contractors to provide management control and oversight over health and safety programs concerning worker exposure to ionizing radiation. The Estimated Number of Total Responses in the previously published request for comments, 34, is incorrect; the correct Estimated Number of Total Responses is 170.

DATES: Comments regarding this collection must be received on or before February 18, 2014.

If you anticipate that you will be submitting comments, but find it difficult to do so within the period of time allowed by this notice, please advise the OMB Desk Officer of your intention to make a submission as soon as possible. The Desk Officer may be telephoned at (202) 395-4650 or contacted by e-email at chad_s_whitman@omb.eop.gov.

ADDRESSES: Written comments should be sent to:

DOE Desk Officer, Office of Information and Regulatory Affairs, Office of Management and Budget, New Executive Office Building, Room 10102, 735 17th Street NW., Washington, DC 20503, Chad_S_Whiteman@omb.eop.gov.

And to: U.S. Department of Energy, 1000 Independence Avenue SW., Attn: Dr. Judith D. Foulke, HS-11, Washington, DC 20585, judy.foulke@hq.doe.gov.

FOR FURTHER INFORMATION CONTACT: Request for additional information should be directed to Judith D. Foulke, telephone (301) 903-5865, by fax at (301) 903-7773 or by email at judy.foulke@hq.doe.gov.

Information about the collection instrument may be obtained at: http://www.hss.doe.gov/pra.html.

SUPPLEMENTARY INFORMATION: This information collection request contains: (1) OMB No: 1910-5105; (2) Information Collection Request Title: Occupational Radiation Protection Program; (3) Type of Review: Renewal; (4) Purpose: The recordkeeping and reporting requirements that comprise this information collection will permit DOE and its contractors to provide management control and oversight over health and safety programs concerning worker exposure to ionizing radiation; (5) Annual Estimated Number of Respondents: 34; (6) Annual Estimated Number of Total Responses: 170; (7) Annual Estimated Number of Burden Hours: 41,500; (8) Annual Estimated Reporting and Recordkeeping Cost Burden: $4,150,000; and (9) Response Obligation: Mandatory

Statutory Authority: Title 10, Code of Federal Regulations, Part 835, Subpart H.

Issued in Washington, DC, on January 10, 2014.
Stephen A. Kirchhoff,
Director, Office of Resource Management, Office of Health, Safety and Security.

[FR Doc. 2014-00756 Filed 1-15-14; 8:45 am]

BILLING CODE 6450-01-P